Title 3—

The President

Proclamation 8903 of November 9, 2012

World Freedom Day, 2012

By the President of the United States of America

A Proclamation

There are times in the course of history when the actions of ordinary citizens spark movements for change because they speak to a longing for freedom that has been building up for years. So it was in Berlin on November 9, 1989, when the German people began tearing down a wall that divided them from their loved ones and symbolized a system that denied them universal human rights. In the face of tyranny, many individuals spoke with one voice. They insisted the world could change—and knowing that destiny is what human beings make of it, they courageously realized the change they sought.

Today, we commemorate the collapse of the Iron Curtain and celebrate the freedom that grew in its place. We also remember that for many, the walls of oppression still stand, and the human rights we honor today are still beyond reach. People around the world continue to demand fundamental liberties they are denied—freedom to express themselves, live their faith, assemble without fear, and choose their leaders freely and fairly. The United States was founded on the belief that people should govern themselves, and as keepers of that proud history, we must stand with those who are reaching for their rights, knowing their success will bring about a world that is more peaceful, more stable, and more just.

As we pursue those goals with renewed vigor, the lessons of the 20th century will continue to remind us what is possible in the 21st. Let us never forget what happened in Berlin 23 years ago, nor the sacrifices that made it possible. And together, let us keep the light of freedom burning bright for all who live in the shadow of oppression and dream of a better future for themselves and their children.

NOW, THEREFORE, I, BARACK OBAMA, President of the United States of America, by virtue of the authority vested in me by the Constitution and the laws of the United States, do hereby proclaim November 9, 2012, as World Freedom Day. I call upon the people of the United States to observe this day with appropriate ceremonies and activities, reaffirming our dedication to freedom and democracy.

IN WITNESS WHEREOF, I have hereunto set my hand this ninth day of November, in the year of our Lord two thousand twelve, and of the Independence of the United States of America the two hundred and thirty-seventh.

[FR Doc. 2012-27918

Filed 11-14-12; 8:45 am]

Billing code 3295-F3